OFFICE OF PERSONNEL MANAGEMENT

Privacy Act of 1974, as Amended: New System of Records

AGENCY: U.S. Office of Personnel Management (OPM).

ACTION: Notice of a new system of records.

SUMMARY: Pursuant to the provisions of the Privacy Act of 1974 (5 U.S.C. 552a), as amended, and Office of Management and Budget (OMB), Circular No. A-130, notice is given that the U.S. Office of Personnel Management (OPM) proposes to establish a new agency-wide system of records entitled “Correspondence Management for the U.S. Office of Personnel Management,” Internal-21. The purpose of this agency-wide notice is to increase administrative efficiency and to centralize and simplify for the public the process of obtaining information and making requests. This system notice does not supersede systems of records covered by separately-noticed systems.

DATES: Please submit any comments by December 21, 2015. The routine uses for releasing records from this system will be effective without further notice on December 21, 2015 unless comments are received that would result in a contrary determination.

ADDRESSES: Send written comments to the Office of Personnel Management, ATTN: Jozetta Robinson, U.S. Office of Personnel Management, 1900 E Street NW., Room 5450, Washington, DC 20415. Written comments can also be sent by email to recordsmanagement@opm.gov.

FOR FURTHER INFORMATION CONTACT: Jozetta Robinson by telephone at 202-606-1000, or by email at OPMExecSec@opm.gov.

SUPPLEMENTARY INFORMATION: In accordance with 5 U.S.C. 552a(e)(4) and (11), the public is given a 30-day period in which to submit written comments. Therefore, please submit any comments by December 21, 2015. A description of the new system of records is provided below. In accordance with 5 U.S.C. 552a(r), the agency has provided a report to OMB and the Congress.

U.S. Office of Personnel Management.
Beth F. Cobert,
Acting Director.

SYSTEM NAME:

Correspondence Management for the U.S. Office of Personnel Management, Internal-21

SYSTEM LOCATION:

U.S. Office of Personnel Management, 1900 E Street NW., Washington, DC 20415 and other U.S. Office of Personnel Management locations throughout the United States and the rest of the world.

CATEGORIES OF INDIVIDUALS COVERED BY THE SYSTEM:

Individuals originating, receiving, or named in correspondence (including attachments) to or from OPM or whose correspondence is referred to OPM, or persons communicating electronically, by mail, or by telephone with OPM regarding official business of OPM, including Members of Congress, other government officials, individuals, and their representatives; individuals originating, receiving, or named in internal memoranda (including attachments) within OPM, including OPM employees, contractors, and individuals relating to investigations, policy decisions, or administrative matters of significance to OPM.

CATEGORIES OF RECORDS IN THE SYSTEM:

The categories of records within the system vary according to the wide scope of the responsibilities of OPM. Categories of records may include correspondence identification (e.g., correspondent's name, address, title, organization, control number, date of correspondence, date received, subject), status of response within OPM, the original correspondence, OPM's response, office or staff member assigned to handle the matter, referral letters, name and identification of person referring the correspondence, copies of any enclosures, and related materials. Some internal memoranda, email correspondence, and logs/notes of official telephone calls to/by OPM staff may also be tracked. This system does not cover systems of records covered by separately-noticed systems.

AUTHORITY FOR MAINTENANCE OF THE SYSTEM:

5 U.S.C. 301 and 44 U.S.C. 3101.

PURPOSE(S):

The system controls and tracks correspondence received or originated by OPM or referred to OPM, and action taken by OPM in response to correspondence received, as well as some internal memoranda, action items, email correspondence, and logs/notes of official telephone calls. It also serves as a reference source for inquiries and response thereto.

ROUTINE USES OF RECORDS MAINTAINED IN THE SYSTEM, INCLUDING CATEGORIES OF USERS AND THE PURPOSES OF SUCH USES:

In addition to those disclosures otherwise permitted under 5 U.S.C. 552a(b), all or a portion of the records or information contained in this system may be disclosed outside of OPM, for a routine use under 5 U.S.C. 552a(b)(3) as follows:

a. For Law Enforcement Purposes—To disclose pertinent information to the appropriate Federal, State, or local agency responsible for investigating, prosecuting, enforcing, or implementing a statute, rule, regulation, or order, where OPM becomes aware of an indication of a violation or potential violation of civil or criminal law or regulation.

b. For Certain Disclosures to Other Federal Agencies—To disclose information to a Federal agency, in response to its request in connection with the hiring or retention of an employee, the issuance of a security clearance, the conducting of a suitability or security investigation of an individual, the classifying of jobs, the letting of a contract, or the issuance of a license, grant, or other benefit by the requesting agency, to the extent that the information is relevant and necessary to the requesting agency's decision on the matter.

c. For Congressional Inquiry—To provide information to a congressional office from the record of an individual in response to an inquiry from that congressional office made at the request of that individual.

d. For Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

e. For National Archives and Records Administration—To disclose information to the National Archives and Records Administration for use in records management inspections.

f. Within OPM for Statistical/Analytical Studies—By OPM in the production of summary descriptive statistics and analytical studies in support of the function for which the records are collected and maintained, or for related workforce studies. While published studies do not contain individual identifiers, in some instances the selection of elements of data included in the study may be structured in such a way as to make the data individually identifiable by inference.

g. For Litigation—To disclose information to the Department of Justice, or in a proceeding before a court, adjudicative body, or other administrative body before which OPM is authorized to appear, when: (1) OPM, or any component thereof; or (2) any employee of OPM in his or her official capacity; or (3) Any employee of OPM in his or her individual capacity where the Department of Justice or OPM has agreed to represent the employee; or (4) the United States, when OPM determines that litigation is likely to affect OPM or any of its components; is a party to litigation or has an interest in such litigation, and the use of such records by the Department of Justice or OPM is deemed by OPM to be relevant and necessary to the litigation provided, however, that the disclosure is compatible with the purpose for which records were collected.

h. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

i. For the Equal Employment Opportunity Commission—To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

j. For the Federal Labor Relations Authority—To disclose information to the Federal Labor Relations Authority or its General Counsel when requested in connection with investigations of allegations of unfair labor practices or matters before the Federal Service Impasses Panel.

k. For Non-Federal Personnel—To disclose information to contractors, grantees, or volunteers performing or working on a contract, service, grant, cooperative agreement, or job for the Federal Government.

l. To appropriate agencies, entities, and persons when (1) OPM suspects or has confirmed that the security or confidentiality of information in the system of records has been compromised; (2) the agency has determined that as a result of the suspected or confirmed compromise there is a risk of harm to economic or property interests, identity theft or fraud, or harm to the security or integrity of this system or other systems or programs (whether maintained by OPM or another agency or entity) that rely upon the compromised information; and (3) the disclosure made to such agencies, entities, and persons is reasonably necessary to assist in connection with OPM's efforts to respond to the suspected or confirmed compromise and prevent, minimize, or remedy such harm.

POLICIES AND PRACTICES FOR STORING, RETRIEVING, ACCESSING, RETAINING AND DISPOSING OF RECORDS IN THE SYSTEM:

STORAGE:

Records are stored in electronic form and on paper.

RETRIEVABILITY:

Information can be retrieved by name of individual; subject matter of topic; or in some cases, by other identifying search term employed.

SAFEGUARDS:

Information in this system is safeguarded in accordance with applicable rules and policies, including OPM's Information Security & Privacy Policy. In general, records and technical equipment are maintained in buildings with restricted access. The required use of password protection identification features and other system protection methods also restrict access. Access is limited to those who have an official need for access to perform their official duties.

RETENTION AND DISPOSAL:

Records are retained and disposed of in accordance with the OPM records schedules approved by the National Archives and Records Administration and/or pursuant to the General Records Schedule.

SYSTEM MANAGER(S) AND ADDRESS(ES):

The system manager is Director, Office of the Executive Secretariat, U.S. Office of Personnel Management, 1900 E Street NW., Room 5450, Washington, DC 20415.

NOTIFICATION AND RECORD ACCESS PROCEDURE:

Individuals wishing to determine whether this system of records contains information about them may do so by writing to the FOIA/PA Requester Service Center, U.S. Office of Personnel Management, 1900 E Street NW., Room 5415, Washington, DC 20415, or by emailing foia@opm.gov. Individuals must furnish the following information:

1. Full name, former name, and any other names used.

2. Date and place of birth.

3. Social Security Number.

4. Signature.

5. Description of the information sought.

6. The reason why the individual believes the system contains information on them.

Individuals requesting access must also comply with OPM's Privacy Act regulations regarding verification of identity and access to records (5 CFR part 297). In addition, requesters must provide a notarized statement or an unsworn declaration made in accordance with 28 U.S.C. 1746, in the following format:

• If executed outside the United States: “I declare (or certify, verify, or state) under penalty of perjury under the laws of the United States of America that the foregoing is true and correct. Executed on [date]. [signature].”

• If executed within the United States, its territories, possessions, or commonwealths: “I declare (or certify, verify, or state) under penalty of perjury that the foregoing is true and correct. Executed on [date]. [signature].”

Attorneys or other persons acting on behalf of an individual must provide written authorization from that individual for the representative to act on their behalf. The written authorization must also include an original notarized statement or an unsworn declaration, as described above.

AMENDMENT PROCEDURES:

Individuals wishing to amend information maintained in the system should direct their requests to the FOIA/PA Requester Service Center, U.S. Office of Personnel Management, 1900 E Street NW., Room 5415, Washington, DC 20415, or by emailing foia@opm.gov, stating clearly and concisely what information the individuals seek to amend, the reasons for seeking amendment, and the proposed amendments. Some information is not subject to amendment. A determination whether a record may be amended will be made at the time a request is received. Individuals must furnish the following information in writing for their records to be located:

1. Full name, former name, and any other names used.

2. Date and place of birth.

3. Social Security Number.

4. Signature.

5. Information the individual seeks to amend, the reasons for seeking amendment, and the proposed amendments.

Individuals requesting access must also comply with OPM's Privacy Act regulations regarding verification of identity and access to records (5 CFR part 297). In addition, requestors must provide a notarized statement or an unsworn declaration made in accordance with 28 U.S.C. 1746, in the following format:

• If executed outside the United States: “I declare (or certify, verify, or state) under penalty of perjury under the laws of the United States of America that the foregoing is true and correct. Executed on [date]. [signature].”

• If executed within the United States, its territories, possessions, or commonwealths: “I declare (or certify, verify, or state) under penalty of perjury that the foregoing is true and correct. Executed on [date]. [signature].”

Attorneys or other persons acting on behalf of an individual must provide written authorization from that individual for the representative to act on their behalf. The written authorization must also include an original notarized statement or an unsworn declaration, as described above.

RECORD SOURCE CATEGORIES:

The information contained in this system is derived from incoming and outgoing correspondence and internal memoranda. Sources include individuals; state, local, tribal, and foreign government agencies as appropriate; the executive and legislative branches of the Federal Government; the Judiciary; and interested third parties.

SYSTEMS EXEMPT FROM CERTAIN PROVISIONS OF THE ACT:

A determination as to exemption shall be made at the time a request for access or amendment is received. OPM has promulgated rules in 5 CFR 297.501(c) reserving the right to assert exemptions for these records when received from another agency that could properly claim such exemptions in responding to a request, and reserving the right to refuse access to information compiled in reasonable anticipation of a civil action or litigation.

[FR Doc. 2015-29583 Filed 11-18-15; 8:45 am]

BILLING CODE 6325-47-P